DEPARTMENT OF JUSTICE

Federal Bureau of Investigation

[OMB Number 1110-0073]

Agency Information Collection Activities; Proposed eCollection, eComments Requested; Crime Data Explorer Feedback Survey

AGENCY: Federal Bureau of Investigation, Department of Justice.

ACTION: 60-Day notice.

SUMMARY: The Department of Justice, Federal Bureau of Investigation, Criminal Justice Information Services Division, will be submitting the following information collection request to the Office of Management and Budget for review and approval in accordance with the Paperwork Reduction Act of 1995.

DATES: Comments are encouraged and will be accepted for 60 days until March 29, 2021.

FOR FURTHER INFORMATION CONTACT: If you have additional comments especially on the estimated public burden or associated response time, suggestions, or need a copy of the proposed information collection instrument with instructions or additional information, please contact Mrs. Amy C. Blasher, Unit Chief, Federal Bureau of Investigation, CJIS Division, Module E-3, 1000 Custer Hollow Road, Clarksburg, West Virginia 26306; acblasher@fbi.gov.

SUPPLEMENTARY INFORMATION: Written comments and suggestions from the public and affected agencies concerning the proposed collection of information are encouraged. Your comments should address one or more of the following four points:

—Evaluate whether the proposed collection of information is necessary for the proper performance of the functions of the Federal Bureau of Investigation, including whether the information will have practical utility;

—Evaluate the accuracy of the agency's estimate of the burden of the proposed collection of information, including the validity of the methodology and assumptions used;

—Evaluate how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a previously approved collection.

2. The Title of the Form/Collection: Crime Data Explorer Feedback Survey.

3. The agency form number, if any, and the applicable component of the Department sponsoring the collection: There is no form number for this collection. The applicable component within the Department of Justice is the Criminal Justice Information Services Division, in the Federal Bureau of Investigation.

4. Affected public who will be asked or required to respond, as well as a brief abstract: Primary: Law enforcement, academia, and the general public. Abstract: This survey is needed to collect feedback on the functionality of the Crime Data Explorer in order to make improvements to the application.

5. An estimate of the total number of respondents and the amount of time estimated for an average respondent to respond: The Federal Bureau of Investigation Uniform Crime Reporting Program's Crime Data Explorer Burden Estimation: It is estimated the Crime Data Explorer will generate 200 feedback responses per year with an estimated response time of two minutes per response.

6. An estimate of the total public burden (in hours) associated with the collection: There are approximately seven hours, annual burden, associated with this information collection.

If additional information is required contact: Melody Braswell, Department Clearance Officer, United States Department of Justice, Justice Management Division, Policy and Planning Staff, Two Constitution Square, 145 N Street NE, 3E.405A, Washington, DC 20530.

Dated: January 25, 2021.
Melody Braswell,
Department Clearance Officer for PRA, U.S. Department of Justice.

[FR Doc. 2021-01882 Filed 1-27-21; 8:45 am]

BILLING CODE 4410-02-P